DEPARTMENT OF TRANSPORTATION

Federal Aviation Administration

[Docket No. FAA-2020-0998; Notice of Availability Docket No. 20-ASO-26]

Notice of Availability of the Final Environmental Assessment (Final EA)/Finding of No Significant Impact (FONSI) and the Record of Decision (ROD) for the South-Central Florida Metroplex Project

AGENCY: Federal Aviation Administration, (FAA), Department of Transportation.

ACTION: Notice of availability.

SUMMARY: The FAA, Eastern Service Center, is issuing this notice to advise the public of the availability of the Final Environmental Assessment (Final EA)/Finding of No Significant Impact (FONSI) and the Record of Decision (ROD) for the South-Central Florida Metroplex Project.

FOR FURTHER INFORMATION CONTACT: Lisa Favors, Federal Aviation Administration, Operations Support Group, Eastern Service Center, 1701 Columbia Avenue, College Park, Georgia 30337, (404) 305-5604. Additional information about the FAA's actions and environmental review of this project is available at the following website: http://www.metroplexenvironmental.com/fl_metroplex/fl_introduction.html.

SUPPLEMENTARY INFORMATION: The FAA prepared a Final Environmental Assessment (EA), dated October 15, 2020, to assess the potential environmental impacts of the South-Central Florida Metroplex project in compliance with the National Environmental Policy Act of 1969, 42 U.S.C. 4321 et seq. Council on Environmental Quality regulation, 40 CFR parts 1500-1508, the requirements of Section 106 of the National Historic Preservation Act, and all other applicable special purpose laws. The Final EA responds to agency and public comments received by the FAA and it updates the Draft EA issued on May 11, 2020. This notice announces that based on the information and analysis contained in the Final EA, and after reviewing comments received on the Draft EA, the FAA is issuing a Finding of No Significant Impact and Record of Decision (FONSI/ROD) for the South-Central Florida Metroplex Project. The FONSI/ROD documents the FAA's determination that the South-Central Florida Metroplex Project would not significantly affect the quality of the human environment and that an Environmental Impact Statement (EIS) is therefore not necessary. The FONSI/ROD also documents the FAA's decision to proceed with the proposed action detailed in the Final EA. The South-Central Florida Metroplex Project will improve the operational efficiency of the national airspace system in the South-Central Florida area by optimizing aircraft arrival and departure procedures at a number of airports.

Availability: The Final EA and FONSI/ROD is available at the following locations:

(1) Online at http://metroplexenvironmental.com.

(2) Electronic Versions of the documentation have been sent to 117 libraries in the General Study Area with a request to make the digital document available to patrons. A complete list of these libraries with electronic copies of the documentation is available online at the website above. The FAA recognizes that libraries may be closed due to the COVID-19 public health emergency and, therefore, availability through these libraries may be impacted.

(3) If you are unable to access the documentation through one of these means, by contacting Lisa Favors at 404-305-5604.

Lisa Favors,
EPS Operations Support Group, Eastern Service Center, Air Traffic Organization.

[FR Doc. 2020-23534 Filed 10-23-20; 8:45 am]

BILLING CODE 4910-13-P